DEPARTMENT OF AGRICULTURE

Office of the Secretary

[USDA.FS-57]

Privacy Act of 1974; Notice of a Proposed New System of Records; Incident Suite (I-Suite) Database Application

AGENCY: Office of the Secretary, Department of Agriculture.

ACTION: Notice of proposed new system of records.

SUMMARY: In accordance with the Privacy Act of 1974, as amended, the Department of Agriculture (USDA) is proposing to add a new Forest Service (FS) Privacy Act system of records to its inventory of records systems. USDA invites public comment on this new records system.

DATES: Comments must be received, in writing, on or before December 7, 2009. This system will be adopted without further notice on January 4, 2010, unless modified to respond to comments received from the public and published in a subsequent notice.

ADDRESSES: Send written comments to the FS Privacy Act Officer (Mail Stop 1143), USDA FS, 1400 Independence Avenue, SW., Washington, DC 20250-1143. Comments may also be sent via e-mail to wo_foia@fs.fed.us, or via facsimile to (202) 260-3245. All comments, including names and addresses when provided, are placed in the record and are available for public inspection and copying. The public may inspect comments received at 201 14th Street, SW., Yates Building, Washington, DC 20250. Visitors are encouraged to call ahead to (202) 205-1542 to facilitate entry to the building.

FOR FURTHER INFORMATION CONTACT: Mike Barrowcliff, Resource Information Manager, Fire & Aviation Management, 3833 South Development Avenue, Boise, Idaho 83705; mbarrowcliff@fs.fed.us; (208) 387-5280.

Individuals who use telecommunication devices for the deaf may call the Federal Information Relay Service at 1-800-877-8339 between 8 a.m. and 8 p.m., Eastern Standard Time, Monday through Friday.

SUPPLEMENTARY INFORMATION: Pursuant to the Privacy Act (5 U.S.C. 552a), the USDA FS is proposing to add a new system of records entitled USDA/FS-57 Incident Suite (I-Suite) Database Application. This new system will support incident business operations conducted by Incident Management Teams (IMT). The interagency IMTs operate among the Wildland Fire agencies, including the USDA FS; Department of Interior's Bureau of Land Management, Bureau of Indian Affairs, U.S. Fish and Wildlife Service, and National Park Service; and the National Association of State Foresters.

The USDA FS is the administrative agency for this system, and it will be used by other Wildland Fire agencies. While the Privacy Act requires agencies to consider only comments regarding routine uses, USDA invites comment on all portions of this notice.

Those who submit comments should be aware that all comments, including names and addresses, when provided, are placed in the record and are available for public inspection. Individuals wishing to inspect comments should call the FS Freedom of Information Act and Privacy Act Office at (202) 205-1542 to make arrangements.

A “Report on the New System,” required by 5 U.S.C. 552a (r) as implemented by the Office of Management and Budget (OMB) Circular A-130, was sent to the Chairman, Committee on Governmental Affairs, U.S. Senate; the Chairman, Committee on Government Reform and Oversight, U.S. House of Representatives; and the Administrator, Office of Information and Regulatory Affairs, Office of Management and Budget.

Dated: October 19, 2009.
Thomas J. Vilsack,
Secretary.

SYSTEM NAME:

Incident Suite (I-Suite) Database Application.

SECURITY CLASSIFICATION:

None.

SYSTEM LOCATION:

The Incident Suite (I-Suite) Database Application is located at incidents and offices throughout the country.

CATEGORIES OF INDIVIDUALS COVERED BY THE SYSTEM:

Individuals who are USDA FS employees, administratively determined (AD) employees, and employees of other governmental agencies. Contractors, vendors, and cooperators who require budgetary or financial services from the Albuquerque Service Center are covered.

CATEGORIES OF RECORDS IN THE SYSTEM:

The system of records will consist of the following required information about agency employees: first and last name, position performing, and request number. Contract and AD personnel information will consist of the following: first and last name, Social Security Number (SSN) or Tax ID Number, hourly rate, point of hire, request number, address, and telephone number. Optional information includes: agency, employment status, configuration (single source, strike team, or task force), actual release date and time, check in time/date to incident, number of crew members, demobilization city and State, jetport for mobilization/demobilization, method of travel to incident, mobilization date, length of assignment, vehicle ID, contract agency, Data Universal Numbering System (DUNS) number, and injury/illness information.

AUTHORITY FOR MAINTENANCE OF THE SYSTEM:

16 U.S.C. 554e.

PURPOSE(S):

The database consists of various functional modules to support business operations by an IMT. It is used by the Planning function to check-in and track resources, to create the Incident Action Plan and for demobilization planning. The finance unit uses the database to track hours worked by employees and vendors, create invoices and payment documents, track daily costs of the incident, and submits daily accruals for posting to the FS financial statement. The medical unit tracks statistics on types of injuries and illnesses that occur on the incident, and the supply unit can use the database for maintaining an inventory of supplies in the incident cache. The reports module provides standard and ad hoc reporting on cost or resource data. The use of I-Suite will provide timely and necessary payment of invoices for contracted and AD (short term) personnel. Routine uses of records maintained in the system, including categories of users and the purposes of such uses:

(1) Disclose information to an appropriate agency, whether Federal, State, or local, charged with the responsibility of investigating or prosecuting a violation of law, rule, or regulation or order issued pursuant thereto, when information available indicates a violation or potential violation of law, whether civil, criminal, or regulatory in nature and whether arising by general statute or particular program statute, or by rule, regulation, or order issued pursuant thereto, if the information disclosed is relevant to any enforcement, regulatory, investigative, or prosecutive responsibility of the receiving entity.

(2) Disclose information to the Department of Justice for the defense of suits against the United States or its officers, or for the institution of suits for the recovery of claims by the United States.

(3) Disclose information to a Member of Congress from the record of an individual in response to an inquiry from the Member of Congress made at the request of that individual. In such cases however, the member's right to a record is no greater than that of the individual.

(4) USDA FS may disclose information to the National Archives and Records Administration and to the General Services Administration and is authorized pursuant to 44 U.S.C. 2904 and 2906.

(5) USDA FS may disclose information to contractors and other parties it engages to assist it in administering the database. Such contractors and other parties will be bound by the nondisclosure provisions of the Privacy Act.

(6) USDA FS will disclose information in this system to other Wildland Fire agencies, both Federal and State.

(7) USDA FS may disclose information to appropriate agencies, entities, and persons when (a) the agency suspects or has confirmed that the security or confidentiality of information in the system of records has been compromised; (b) USDA has determined that as a result of the suspected or confirmed compromise there is a risk of harm to economic or property interests, identity theft or fraud, or harm to the security or integrity of this system or other systems or programs (whether maintained by USDA or another agency or entity) that rely upon the compromised information; and (c) the disclosure made to such agencies, entities, and persons is reasonably necessary to assist in connection with USDA's efforts to respond to the suspected or confirmed compromise and prevent, minimize, or remedy such harm.

DISCLOSURE TO CONSUMER REPORTING AGENCIES:

None.

POLICIES AND PRACTICES FOR STORING, RETRIEVING, ACCESSING, RETAINING, AND DISPOSING OF RECORDS IN THE SYSTEM:

Only those specifically authorized individuals shall have access through role-based user accounts specific to each incident. This access is available using authentication by username and password.

STORAGE:

Authorized personnel may access this data. Information is stored on individual workstations only for the duration of the incident. Upon closure of the incident or reassignment/transition of the IMT, the data is provided to the incident host agency or incoming IMT and is exported to a central repository located at the National Information Technology Center (NITC) in Kansas City, Missouri. The data is then purged from the workstations.

RETRIEVABILITY:

Electronic records in the database can be retrieved using a combination of information in data fields (but not SSN) about a particular person.

SAFEGUARDS:

Access to the database and all electronic records with personal information will be password protected and stored on secure servers in secured rooms; access will be granted by role based permissions. Electronic access to records is controlled by permissions-based roles and a security authorization process established for authorized users. Each user is assigned a specific UserID linked to a specific role.

RETENTION AND DISPOSAL:

Electronic data on individual workstations will be retained until the closure of the incident. This same data is then purged of SSNs and exported to a central repository maintained at a secure USDA data center located at the NITC and retained for 6 years. After exporting to NITC the data is purged from the workstations.

SYSTEM MANAGER(S) AND ADDRESS:

Chief Information Officer, USDA, 1400 Independence Avenue, SW., Washington, DC 20250.

NOTIFICATION PROCEDURE:

Any individual may request information regarding this system of records or information as to whether the system contains records pertaining to him or her from the system manager listed above. The request should be in writing and should contain the name and address of the requester.

RECORD ACCESS PROCEDURES:

Use the same procedures as those prescribed in Notification Procedures.

CONTESTING RECORD PROCEDURES:

Use same procedures as those prescribed in Notification Procedures.

RECORD SOURCE CATEGORIES:

Information in this system comes primarily from individuals who are members of an IMT on an as needed basis when an incident occurs.

EXEMPTIONS CLAIMED FOR THE SYSTEM:

None.

[FR Doc. E9-26657 Filed 11-4-09; 8:45 am]

BILLING CODE 3410-11-P